DEPARTMENT OF HEALTH AND HUMAN SERVICES

Centers for Disease Control and Prevention

[60Day-02-59]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Assessment of the Effectiveness of the Center for Disease Control and Prevention's (CDC) Guidelines for Prevention of Surgical Wound Infections—New—National Center for Infectious Diseases (NCID), Centers for Disease Control and Prevention (CDC..

In the U.S. an estimated 31.8 million surgical procedures are performed each year. Despite advances in infection control practices, surgical technique and antisepsis, and the introduction of antimicrobial prophylaxis, surgical site infections (SSIs) remain a leading cause of healthcare-associated morbidity and mortality. An estimated 2%-5% of surgical procedures done each year are complicated by SSI. In addition, SSIs result in an additional 7.4 days of hospitalization and $400-$2,600 in healthcare costs/infection, resulting in an annual cost of $130-$845 million/year. Since the early 1980's CDC has developed and disseminated guidelines for the prevention of SSIs. However, the degree of practitioner and institutional compliance with the guideline and the impact of the CDC-recommended precautions in preventing SSIs have not been determined. The Institute of Medicine and the Healthcare Infection Control Practices Advisory Committee have strongly advised that systematic guideline evaluation be a standard component of the guideline development process.

The purpose of this project is to assess the effectiveness of CDC Guidelines to Prevent Surgical Site Infection. The objective of this study is to determine knowledge, attitudes, and practices of surgeons regarding the Guidelines.

A mail and Internet survey will be conducted among a representative sample of members of the American College of Surgeons. The survey will ask about surgical practices and opinions related to surgical site infections. Participation in the survey will be voluntary. There is no cost to the respondents other than their time.

Respondents | Number of respondents | Number of responses/respondent | Avg. burden/respondent (in hours) | Total burden (in hours)
American College of Surgeons | 2134 | 1 | 30/60 | 1067
Total |  |  |  | 1067

Dated: May 24, 2002.
Nancy E. Cheal,
Acting Associate Director for Policy, Planning and Evaluation, Centers for Disease Control and Prevention.

[FR Doc. 02-14128 Filed 6-5-02; 8:45 am]

BILLING CODE 4163-18-P